DEPARTMENT OF COMMERCE

International Trade Administration

A-570-504

Petroleum Wax Candles from the People's Republic of China: Extension of Time Limit for Preliminary Results of the Antidumping Duty Administrative Review

AGENCY: Import Administration, International Trade Administration, Department of Commerce.

EFFECTIVE DATE: May 6, 2005.

FOR FURTHER INFORMATION CONTACT: Paul Walker, AD/CVD Operations, Office 9, Import Administration, International Trade Administration, U.S. Department of Commerce, 14th Street and Constitution Avenue, NW., Washington, DC 20230; telephone (202) 482-0413.

SUPPLEMENTARY INFORMATION:

Background

On September 22, 2004, the Department published its notice of initiation of an antidumping administrative review on petroleum wax candles from the People's Republic of China (“PRC”). See Initiation of Antidumping and Countervailing Duty Administrative Reviews and Request for Revocation in Part, 69 FR 56745 (September 22, 2004). The Department subsequently received a timely withdrawal request from one of the exporters that requested a review: Shangyu City Garden Candle Factory (“Garden Candle”). On March 30, 2005, the Department published a notice of rescission, in part, of antidumping duty administrative review for Garden Candle. See Petroleum Wax Candles from the PRC: Rescission, in Part, of Antidumping Duty Administrative Review, 70 FR 16217 (March 30, 2005). The Department is not rescinding its review of Shanghai R&R Import/Export Co., Ltd. (“Shanghai R&R”), another exporter that requested review. The preliminary results of this administrative review are currently due no later than May 3, 2005.

Extension of Time Limit for Preliminary Results

Pursuant to section 751(a)(3)(A) of the Tariff Act of 1930, as amended (“the Act”), the Department shall issue preliminary results in an administrative review of an antidumping duty order within 245 days after the last day of the anniversary month of the date of publication of the order for which a review is requested and the final results within 120 days after the date on which the preliminary results are published. However, if it is not practicable to complete the review within the time period, section 751(a)(3)(A) of the Act allows the Department to extend these deadlines to a maximum of 365 days and 180 days, respectively.

The Department finds that it is not practicable to complete the preliminary results in the administrative review of petroleum wax candles from the PRC within the originally anticipated time limit (i.e., by May 3, 2005), because we are currently analyzing factors of production information that has required numerous supplemental questionnaires. Therefore, the Department is extending the time limit for completion of the preliminary results no later than August 11, 2005, in accordance with Section 751(a)(3)(A) of the Act. The deadline for the final results of this administrative review continues to be 120 days after the publication of the preliminary results. We are issuing and publishing this notice in accordance with Section 751(a)(1) and 777(i)(1) of the Act.

Dated: April 29, 2005.
Barbara E. Tillman,
Acting Deputy Assistant Secretary for Import Administration.

[FR Doc. E5-2215 Filed 5-5-05; 8:45 am]

BILLING CODE: 3510-DS-S